DEPARTMENT OF AGRICULTURE

Forest Service

Tongass National Forest; Alaska; Land Management Plan Revision

AGENCY: Forest Service, Agriculture (USDA).

ACTION: Notice of initiation of the development of a proposed plan revision and notice of intent to prepare an environmental impact statement.

SUMMARY: The U.S. Department of Agriculture, Forest Service is revising the land management plan for the Tongass National Forest. This notice announces the Forest Service's initiation of the development of a revised land management plan (revised plan) and intent to prepare an environmental impact statement (EIS) to evaluate the effects of revising the current plan. This notice initiates the scoping period on the development of the proposed action and EIS. This notice also describes the documents and background resources available for review and how to obtain them; includes a description of the preliminary need to change the current land management plan; includes options for meeting the needs for change; includes a preliminary list of substantive issues to be analyzed in detail; provides information on public participation, including the process for submitting comments; provides an estimated schedule for the planning process; and describes how to obtain additional information. The Planning, Administrative Reviews, and Litigation System identification number for the project is 64039.

DATES: Comments must be received by March 20, 2026. Scoping for this revised plan will occur between now and release of the draft revised plan and draft EIS, through iterative public engagement opportunities, using a variety of methods.

Continued coordination with cooperating agencies and consultation with Tribes and Alaska Native Corporations are also planned during this timeframe as part of scoping efforts. The draft revised plan and draft EIS are expected to be published during fall 2026 with a 90-day comment period. Those comments will be used to update the final revised plan and EIS, which are expected to be available during May 2027. These dates are subject to changes in the project schedule.

The dates and times of any public meeting or webinar to share more information on the plan revision will be posted at https://www.fs.usda.gov/r10/tongass/planning/forest-plan/plan-revision-public-engagements. Information will also be shared through electronic mailing lists, social media, and local media outlets.

ADDRESSES: Written comments received in response to this notice will inform the Forest Service's identification of the need to change the current land management plan, will support development of the proposed action (draft revised plan), and will help the agency further develop and refine potential substantive issues which will inform development of alternatives to the proposed action.

Written Comments

Individuals and entities are encouraged to submit comments via webform at https://cara.fs2c.usda.gov/Public/CommentInput?Project=64039. Hardcopy letters must be submitted to the following address: Tongass National Forest, USDA Forest Service, 648 Mission Street, Suite 110, Federal Building, Ketchikan, AK 99901. For those submitting hand-delivered comments, please call 907-519-8035 to make arrangements.

FOR FURTHER INFORMATION CONTACT: Erin Mathews, Environmental Coordinator, via email at erin.mathews@usda.gov or at 907-419-8347.

Individuals who use telecommunication devices for the hearing-impaired may call 711 to reach the Telecommunications Relay Service, 24 hours a day, every day of the year, including holidays. For further information about the plan revision process and to view associated documents, go to the Tongass Plan Revision website at: https://www.fs.usda.gov/r10/tongass/planning/forest-plan/tongass-national-forest-plan-revision.

SUPPLEMENTARY INFORMATION:

Purpose and Need for Action

The National Forest Management Act of 1976 (16 U.S.C. 1604) and 2012 Planning Rule (36 CFR 219) require that the Forest Service develop a land management plan, often called a forest plan, for every national forest. Land management plans provide strategic direction for management of forest resources and are to be revised every 15 years thereafter to ensure plans remain current (36 CFR 219.7(a)). The Tongass Land and Resource Management Plan was adopted in 1979, revised in 1997, and amended in 2008 and 2016. The purpose and need for revising the current land management plan are: (1) update the land management plan that was last revised nearly 30 years ago; (2) provide strategic direction that reflects changes in economic, social, and ecological conditions, new agency policies and priorities, and new information based on monitoring and scientific research; and (3) to address the preliminary identified need to change to the current land management plan. The Notice of Intent to Prepare an Assessment, pursuant to the 2012 Planning Rule, was published in the Federal Register on April 26, 2024 (89 FR 32393). A draft assessment was posted for comment on January 10, 2025, and based on public comments received, the assessment was revised and posted on October 16, 2025: https://www.fs.usda.gov/r10/tongass/planning/tongass-national-forest-plan-revision-assessment.

Background

The Tongass National Forest is the largest national forest in the country at 16.7 million acres and includes approximately 80% of the Southeast Alaska panhandle. Southeast Alaska is a remote archipelago with approximately 32 rural, semi-rural, and urban communities ranging in population from 18 to 31,000 residents. Nineteen federally recognized tribal governments are located within and utilize lands and waters of the Tongass as their traditional homelands. The landscape is complex, dominated by a largely intact temperate rainforest, encompassing waterways and over 1,000 islands, with most communities surrounded by the Tongass National Forest. Boat and air travel is key to transportation and economic prosperity. Cruise ships are the primary method of travel for the majority of the millions of tourists who visit the region annually.

The Forest Service's management of the Tongass National Forest strongly influences the rural economy, and culture of Southeast Alaska. Recreation, tourism, fisheries, and timber harvest are local and regional economic sectors that are heavily influenced by Tongass National Forest management. These commercial activities, combined with subsistence resources, are the core of Southeast Alaska's local and regional economy and depend on the high productivity and careful stewardship of Tongass National Forest ecosystems. Tourism and recreation depend heavily on scenic value and healthy fish and wildlife populations. The Tongass National Forest also contains large old growth trees, which are highly valued for specialty wood products, and younger timber stands that together can support a sustainable timber sector that contributes to rural economies and culture. The high productivity of forest ecosystems also supports rural and indigenous communities with an abundance of natural resources.

In working toward a revised forest plan for the Tongass National Forest, the revision team will ensure consistency with applicable laws, regulations, and executive orders. Unique to the Tongass is the 1990 Tongass Timber Reform Act (TTRA), which set requirements for riparian buffers from timber harvest, amended the Alaska National Interest Lands Conservation Act (ANILCA) to protect certain lands in the Tongass National Forest in perpetuity, and established a need to understand the demand for Tongass National Forest timber. Provisions of the TTRA and ANILCA will be addressed during the revision process. For example, a new long-term timber demand analysis is underway at the USDA Forest Service Pacific Northwest Research Station to inform the revised plan. The revision team will ensure consistency with executive orders including the 2025 Executive Order (E.O.) 14153, “Unleashing Alaska's Extraordinary Resource Potential,” and E.O. 14225, “Immediate Expansion of American Timber Production,” while considering resource potential and opportunities for rural economic development. E.O.s state the policy of the United States to maximize the development and production of natural resources in Alaska and to increase timber production to protect national and economic security.

Proposed Action

The proposed action is to revise the Tongass National Forest Land and Resource Management Plan to address the identified need to change. Public comment is requested on the preliminary need to change as described below. A revised plan will be developed, consistent with the 2012 Planning Rule, that includes desired conditions, goals, objectives, standards, guidelines, suitability of lands for specific multiple uses, lands that could be recommended to Congress for inclusion into the National Wilderness Preservation System, and the identification of rivers eligible for inclusion into the National Wild and Scenic Rivers system.

The revised plan will not authorize any projects or actions but will guide future decision-making on the Tongass National Forest. It will inform the purpose and need for future actions, guide the design of projects, and include a plan monitoring program to guide the development of biennial land management plan monitoring reports.

Alternatives

The Forest Service will analyze a reasonable range of alternatives to the proposed action. A “no action” alternative that considers retention of the current land management plan will be analyzed along with alternatives that are expected to vary in how management emphasizes access and availability of resources for different uses. Alternatives to the proposed action will represent different approaches to addressing the substantive issues raised during opportunities to comment.

Preliminary Need To Change

The 2012 Planning Rule requires that revision of land management plans be informed by an identified need to change that reflects feedback from the public, Tribes and Alaska Native Corporations, and other governmental agencies. The agency seeks feedback on the following preliminary need to change. The need to change will continue to be refined and updated in the draft and final revised plans, through feedback and new information.

The preliminary need to change focuses on the following six interrelated goals:

(1) Update and modernize the plan, consistent with the 2012 Planning Rule, by simplifying, clarifying, reorganizing, and reducing the number of management areas for concise, easy to follow direction.

(2) Prioritize local and regional prosperity of Southeast Alaska by contributing to timber, minerals, tourism, recreation, and other important economic drivers.

(3) Incorporate strategies to address significant changes in recreation and tourism, including the increase in cruise ship visitation.

(4) Include plan content that encourages collaboration and shared stewardship with a variety of partners in pursuit of common objectives. These partners can include: local, state, and tribal governments; Alaska Native Corporations; industry stakeholders; and other non-governmental organizations.

(5) Consider needs for subsistence uses such as hunting, fishing, and gathering when developing the revised plan.

(6) Consider indigenous knowledge related to land stewardship, cultural issues, and culturally-significant sites.

Additional details are provided below for each of these goals.

Update and modernize the plan: The current Tongass Land and Resource Management Plan is constructed around 18 land use designations (LUDs), which were added at different times to achieve a variety of goals. Chapter 5 was added during 2016, through a forest plan amendment, to update direction on young-growth timber harvest, renewable energy, and transportation system corridors. As a result of numerous amendments, the current forest plan has overlapping and sometimes confusing or conflicting direction.

Simplification of the forest plan content and format, reducing overlapping direction, and improving clarity is needed to ensure that the plan is focused on integrated resource management within the fiscal capability of the unit (36 CFR 219.1(g), 219.10(a)), and to ensure that they are written clearly and without ambiguity so that a project's consistency with applicable plan components can be easily determined (36 CFR 219.15(d)).

Prioritize local and regional prosperity: There is a need to better integrate plan content with a focus on community prosperity that can be supported by Tongass National Forest management decisions. This could include updates to timber, tourism and recreation, and minerals, and other commercial uses to reflect current regional economic drivers. When considering local and regional prosperity, there is a need to consider current and possible future economic drivers to ensure that the Tongass National Forest will provide adequate access to resources for development and that plan components promote expeditious permitting for energy and natural resource developments, consistent with E.O.s 14153 and 14225.

Address changes to recreation and tourism: The current Tongass Land and Resource Management Plan contain direction for recreation and tourism, but does not reflect recent growth and projected changes, particularly the increase in cruise ship tourism. Outdoor recreation and tourism are the biggest private-sector economic drivers in the region. The revised plan needs to consider how to balance recreation and tourism with other uses, ensuring sustainability of the natural environment and protecting the character of the Tongass.

Foster shared stewardship in pursuit of common objectives: There are collaborative opportunities to meet joint management objectives across the landscape. Integration of these opportunities to work cooperatively with partners will create a land management plan with improved responsiveness to local and regional needs. There is a need to incorporate opportunities for shared stewardship, partnerships, and coordination of planning with other public planning efforts into the revised plan in order to support ecological, economic, and social sustainability.

Consider needs for subsistence uses such as hunting, fishing, and gathering: As Congress found in the Alaska National Interest Lands Conservation Act, “the continuation of the opportunity for subsistence uses by rural residents of Alaska, including both Natives and non-Natives, on the public lands and by Alaska Natives on Native lands is essential to Native physical, economic, traditional, and cultural existence and to non-Native physical, economic, traditional, and social existence.” In addition, rural communities of Southeast Alaska obtain a far higher proportion of their nutrition from wild sources than the national average. All types of non-commercial harvest of fish, wildlife, and plants are identified by Tribes, communities, agencies and individuals as a key ecosystem service on the Tongass National Forest that should be prioritized in the revised plan. While the current plan includes direction on subsistence uses, it does not provide direction specific to the individual communities and their activities within the Tongass National Forest.

Consider indigenous knowledge related to land stewardship, cultural issues, and culturally significant sites: Indigenous knowledge will be considered as a form of best available scientific information that will contribute to ecologically, socially, and culturally informed management practices, which is a requirement of all land management plans (36 CFR 219.4(a)(3)). There is a need to seek and integrate information on traditional uses and management of natural resources, including topics such as management and use of cultural wood, fisheries and wildlife habitat, and land and water access to locations of cultural importance. This information will be gathered through tribal government consultation, Alaska Native Corporation consultation, and other engagement with Alaska Natives. The revised plan can incorporate indigenous knowledge into plan components as well as highlight opportunities to address impacts identified by, and contribute to objectives of, federally recognized tribal governments, Alaska Native Corporations, and Alaska Native communities.

Resources With No Identified Preliminary Need for Substantive Change

Some management direction in the current forest plan will not be changed. This is the case for actions not subject to the discretion of the Tongass National Forest Supervisor. Those include boundaries of Congressionally-designated wilderness areas and Land Use Designation II (LUD II, established by statute in 1990 and 2014 to be managed in a roadless state to maintain their wildland character), as well as Research Natural Areas and Experimental Forests. No decisions will be made regarding the management of individual roads or trails such as those that might be associated with a Travel Management plan under 36 CFR part 212. No decision regarding the availability of oil and gas leases will be made.

There are many resources for which the relevant assessment information and monitoring suggests that there may be no need for substantive change, but for which direction would be reworded and reorganized. Such change is not substantive and will not require detailed analysis. Much of the current direction meets the intent of the 2012 Planning Rule, in that it provides for sustainability, ecological integrity, diversity of plant and animal communities, ecosystem services, and multiple use, and contributes to social and economic sustainability. While the entire plan needs general updates and reorganization as described above, much existing direction needs only non-substantive updates.

The topics for which relevant information from the assessment, monitoring, and input from the public, Tribes and other agencies suggest may not need substantive change, include the following:

• Fish and wildlife direction, and species-related plan direction. While species of conservation concern will be addressed in the plan, and there may be changes to organization, many existing protective measures are expected to be retained.

• The old-growth habitat conservation strategy. While plan components may be edited and LUDs will be revised, the intent of maintaining and improving old growth habitat reserves and corridors for species that depend upon them may not need to change.

• Special uses, transportation, infrastructure, energy and minerals direction. These topics are guided by other law, regulation, or policy.

• Direction regarding specific natural resources, including air quality, soils, geology and geologic hazards, watershed and riparian management areas, and karst management. Although most protective measures have been shown to be successful, revised direction will address current conditions and the best available science and will likely result in only minor management changes.

Options for Plan Content To Address the Preliminary Need To Change

The agency is sharing the following potential options for revised plan content to address, in part, the interrelated concerns identified in the preliminary need to change. The agency will continue to develop the revised plan and alternatives considering comments received from the public, cooperating agencies, Tribes and Alaska Native Corporations, and other governmental organizations on both the preliminary need to change and options for plan content.

• Update suitability of lands for timber production as required in a plan revision (36 CFR 219.11). Updates to suitability will include factors such as changes in land ownership due to exchanges and transfers, updated vegetation mapping, and changes from the current LUDs to new management areas. Timber production estimates and assumptions will be reviewed, and timber-related metrics such as the sustained yield limit and projected timber sale quantity will be updated accordingly and informed by a new long-term timber demand analysis underway at the Pacific Northwest Research Station, as described above and in accordance with TTRA requirements.

• Moving from the current LUD-based system to a new management area system. This would reduce the number of management areas (LUDs), while retaining most of the existing forest-wide direction for natural resource and ecosystem services management. Consideration is being given to replacing the current LUD system with a combination of forest-wide direction along with a reduced number of management areas as detailed below. Potential management areas being considered and on which we are soliciting feedback are:

General Forest—areas for which timber harvest is allowed, and where multiple uses and natural resource development could occur. These areas would be expected to include roaded areas that would be maintained and provide access for many uses and unroaded areas with development potential. These areas are not set aside for conservation purposes and would enable industry access and local access to resources. The majority of the forest's suitable timber base that contributes to the projected timber sale quantity could be located in this general forest area, guided by forest-wide direction without additional management area direction.

High Use Recreation Areas—areas for which the plan would guide recreation infrastructure development and recreation and other special use permit activities. These areas would have a desired condition of accommodating many types of recreation and tourism activities.

Low Use Recreation Areas—areas for which the plan would have limited infrastructure development, and the intent would be to provide areas without high levels of outfitter/guide or other recreation-related special use permits.

Community Use Priority Areas—areas with increased shared stewardship and prioritization of local uses, developed in conjunction with communities.

Old Growth Habitat Areas—areas that include old growth reserves and potentially other ecologically important characteristics. Within these areas, old growth timber harvest would be restricted, and other timber removal could occur for ecological or cultural benefit. Within these areas, maintenance and restoration of old growth forest structure, composition and function would be the priority.

Conservation Watersheds—areas where the focus would be on watersheds and fisheries protection. They would incorporate watersheds of conservation importance for salmon and subsistence use of salmon.

• Develop a framework that reflects changes to shifting recreation values, use patterns and technology, addresses winter recreation use and updates recreation and outfitter/guide capacity direction. This may include considering emerging uses and technologies, such as e-bikes, drones, geocaching, heliskiing, and others. It may also include a framework that is more responsive to changes in the tourism industry. For example, high and low use management areas could guide recreation infrastructure and outfitter/guide permitting.

• Integrate direction found in Chapter 5 of the current plan (2016 amendment) throughout the revised plan, rather than retain as a standalone section, improving consistency throughout the plan for management of all resources.

• Fully integrate concepts of local economic and social sustainability into management direction including integrating habitat improvement for subsistence resources and long-term management of cultural use wood into timber management.

• As required in the 2012 Planning Rule, species of conservation concern will be identified, and plan components developed to maintain or restore ecological conditions that contribute to maintaining a viable population of each of these species (36 CFR 219.9(c)).

• Develop management approaches to support the working relationships, partnerships, tribal authorities, and communities and identify other opportunities to develop and meet joint management goals. For example, management approaches or frameworks for collaborative stewardship of natural resources on the Tongass National Forest could be described.

• Management area direction should consider opportunities for shared stewardship. For example, goals for community priority management areas could be created as areas with increased shared stewardship and prioritization of local uses.

• Integrate subsistence uses throughout the plan to ensure that access to these uses is maintained or restored.

• Include consideration of indigenous perspectives of biological and cultural health and land and resource stewardship.

• Enhance flexibility to address hazardous conditions, including conditions in dynamic or sensitive ecosystems affected by increasing temperatures and changing precipitation patterns.

• Reduce duplication with other law, regulation and policy but provide citations, where necessary (as described at 36 CFR 219.2(b)(2)).

• Improve clarity of plan direction and reduce ambiguity so that project consistency with applicable plan direction can be more easily determined.

• Remove or revise current direction requiring specific analyses, types of modeling, or inventory, which may be outdated, overly complex or unclear.

• Improve clarity of plan direction on scenic integrity objectives, including updated maps and associated plan content.

We are seeking public feedback on these potential options, and welcome any proposed actions or strategies provided by the local, state, and tribal governments, Alaska Native Corporations, communities, or non-governmental organizations.

Preliminary Substantive Issues

A Notice of Intent must include a preliminary list of substantive issues to be analyzed in detail, with a summary of expected impacts for each issue. The preliminary substantive issues described here are based on current information and public input. The Forest Service requests additional public input to help refine this list. The preliminary substantive issues that the Forest Service expects to analyze in detail are as follows:

• Economic sustainability—Reflecting the health of ecosystem services and industries that rely on the productivity of the Tongass National Forest, variations between the alternatives may support different economic drivers to varying degrees and different methods for contributing to economic and social sustainability, which is a requirement of all land management plans (36 CFR 219.1(c)).

• Timber availability—Varying management areas, levels of watershed protection, areas suitable for timber production, and other plan content in the proposed action and alternatives may provide variable access to old growth versus young growth timber and a varied projected timber sale quantity.

• Ecological sustainability—The proposed action and alternatives may provide different methods for maintenance of ecological sustainability, which is a requirement of all land management plans (36 CFR 219.1(c)). These methods may have different impacts to resource use and availability, risk of natural hazards such as flooding and landslides, and climate resilience. Analysis will provide the decision maker with information to determine alternative selection.

• Fisheries—including aquatic habitat and watershed conditions—Management areas and plan content in the proposed action and alternatives may have varying emphasis on protection of streams, riparian areas, and watersheds to promote healthy fisheries and access to fishery resources, including salmon.

• Access to subsistence resources used for hunting, fishing and gathering—The proposed action and alternatives may provide different methods for protection of access to subsistence resources and for balancing conflicting uses. While the revised plan will not include restrictions or allowances for subsistence uses, it can include direction for other uses with potential effects to access to subsistence sites, or direction for hunting and fishing outfitter/guides.

• Effects to recreation and tourism opportunities—Variations between the proposed action and alternatives may guide different levels and types of recreation and tourism and may lead to opportunities or restrictions varying by management area. Considerations will include the need to balance ecological, social, and economic sustainability of different types of recreation and tourism.

• Designated area extent—Alternatives may vary based on the acreage of designated areas, and the plan components associated with those areas. For example, recommended wilderness areas or special interest areas may vary by alternative.

Expected Impacts: The revised plan is expected to maintain or improve ecological, economic, social, and cultural sustainability.

Scoping Comments and the Objection Process

This notice of intent initiates the scoping process, specifically a 30-day feedback period, which will, in conjunction with public engagement opportunities described in “Dates” above, guide the development of the draft plan and EIS. The scoping process is conducted in accordance with the USDA NEPA regulations (7 CFR 1b.7(c)).

In this feedback period, in addition to comments on the preliminary need to change and options for plan content, the Forest Service is requesting input to support development of potential alternatives and evaluation of impacts, and identification of any relevant information, studies, or analyses concerning impacts that may affect the quality of the environment.

It is important that reviewers provide comments at such times and in such a manner that they are useful to the Forest Service's preparation of the preliminary draft revised plan and EIS. Therefore, comments should be provided prior to the close of the comment period and should clearly articulate the reviewer's concerns and contentions. Comments received in response to this solicitation, including names and addresses of those who comment, will be part of the public record for this proposed action. The scoping and comment periods are established in a manner as not to preclude meeting the statutory deadline for completing an EIS.

The decision to approve a revised plan for the Tongass National Forest will be subject to the objection process identified in 36 CFR part 219 Subpart B (219.50 to 219.62). According to 36 CFR 219.53(a), those who may file an objection are individuals and entities who have submitted substantive formal comments related to land management plan revision during the opportunities provided for public comment, including this 30-day feedback period. The burden is on the objector to demonstrate compliance with requirements for objections (36 CFR 219.53). Comments submitted anonymously will be accepted and considered; however, they do not establish eligibility to file an objection.

Related Regulatory Actions

The Forest Service released a notice of intent on August 29, 2025, to prepare an environmental impact statement for proposed rulemaking to rescind the 2001 Roadless Area Conservation Rule (2001 Roadless Rule) (https://www.federalregister.gov/documents/2025/08/29/2025-16581/special-areas-roadless-area-conservation-national-forest-system-lands). The proposed rulemaking would remove prohibitions on road construction, road reconstruction, and timber harvesting within inventoried roadless areas (IRAs), including 9.3 million acres of land currently identified as IRAs in the Tongass National Forest. In addition, E.O. 14153, “Unleashing Alaska's Extraordinary Resource Potential,” directs the Secretary to reinstate the 2020 Alaska Roadless Rule, which exempted the Tongass from the 2001 Roadless Rule (until it was later rescinded). The proposed nation-wide recission of the 2001 Roadless Rule would have the same result as reinstating the 2020 Alaska Roadless Rule for the Tongass National Forest and meet the intent of the E.O.

The EIS for the revised plan will analyze one or more alternatives that do not include IRA designations so final decision on the revised plan can align with the outcome of the rulemaking process.

Cooperating and Participating Agencies

The Forest Service is the lead agency for this proposed action. Cooperating agencies include the State of Alaska, City and Borough of Wrangell, City of Ketchikan, and the Environmental Protection Agency. Other governmental agencies, including tribal governments, may request to participate as a cooperating agency by contacting Marion Glaser at marion.glaser@usda.gov or 907-519-8035.

Responsible Official

The Responsible Official is Monique Nelson, Forest Supervisor, Tongass National Forest Supervisor's Office, 648 Mission St., Ste. 110, Ketchikan, AK 99901, 907-225-3101.

Nature of Decision To Be Made

The Tongass National Forest is revising its land management plan and preparing an EIS to evaluate the effects of the revision. The EIS is meant to inform the forest supervisor's decision regarding which alternative best maintains and restores National Forest System terrestrial and aquatic resources while providing ecosystem services and multiple uses, as required by the National Forest Management Act and the Multiple Use Sustained Yield Act. The revised plan will describe the strategic intent of managing the forest for the next 10 to 15 years and will address the identified need to change to the current land management plan.

The revised plan will not replace applicable laws and regulations. The authorization of project-level activities will be based on the guidance and direction contained in the revised plan but will only occur through subsequent project-specific analysis and decision-making, consistent with the National Environmental Policy Act. No decisions will be made regarding the management of individual roads or trails such as those that might be associated with a Travel Management Plan under 36 CFR part 212. No decision regarding the availability of oil and gas leases will be made.

Lisa Northrop,
Associate Deputy Chief, National Forest System.

[FR Doc. 2026-03197 Filed 2-17-26; 8:45 am]

BILLING CODE 3411-15-P